DEPARTMENT OF DEFENSE

GENERAL SERVICES ADMINISTRATION

NATIONAL AERONAUTICS AND SPACE ADMINISTRATION

48 CFR Parts 46 and 52

[FAC 2005-80; Technical Amendments; Corrections; Docket 2014-0053; Sequence No. 5]

Federal Acquisition Regulation; Technical Amendments; Corrections

AGENCIES: Department of Defense (DoD), General Services Administration (GSA), and National Aeronautics and Space Administration (NASA).

ACTION: Final rule; corrections.

SUMMARY: DoD, GSA, and NASA are issuing corrections to the Technical Amendments; (Item III), which was published in the Federal Register at 80 FR 4994, January 29, 2015.

DATES: Effective: March 2, 2015.

FOR FURTHER INFORMATION CONTACT: The Regulatory Secretariat Division (MVCB), 1800 F Street NW., 2nd Floor, Washington, DC 20405, 202-501-4755, for information pertaining to status or publication schedules. Please cite FAC 2005-80, Technical Amendments; Corrections.

SUPPLEMENTARY INFORMATION:

Corrections

In rule FR Doc. 2015-01526 published in the Federal Register at 80 FR 4994, January 29, 2015, make the following corrections:

1. On page 4994, in the second column, line 12, correct “(Jan 2014)” to read “(Mar 2015)”.

2. On page 4994, in the second column, line 43, correct “(Jan 2015)” to read “(Mar 2015)”.

Authority: 40 U.S.C. 121(c); 10 U.S.C. chapter 137; and 51 U.S.C. 20113.

Dated: February 3, 2015.
William Clark,
Director, Office of Government-wide Acquisition Policy, Office of Acquisition Policy, Office of Government-wide Policy.

[FR Doc. 2015-02529 Filed 2-6-15; 8:45 am]

BILLING CODE 6820-EP-P